INTER-AMERICAN FOUNDATION

Sunshine Act Meetings

TIME AND DATE: December 9, 2013, 9:00 a.m.-1:00 p.m.

PLACE: Baker & McKenzie, 815 Connecticut Avenue NW., Washington, DC 20006.

STATUS: Open session.

MATTERS TO BE CONSIDERED:

Approval of the Minutes of the June 24, 2013, Meeting of the Board of Directors

Management Report

Advisory Council Report

Donor Engagement

PORTIONS TO BE OPEN TO THE PUBLIC:

Approval of the Minutes of June 24, 2013, Meeting of the Board of Directors

Management Report

Advisory Council Report

Donor Engagement

CONTACT PERSON FOR MORE INFORMATION: Paul Zimmerman, General Counsel, (202) 683-7118

Paul Zimmerman,
General Counsel.

[FR Doc. 2013-28892 Filed 11-27-13; 4:15 pm]

BILLING CODE 7025-01-P